DEPARTMENT OF THE INTERIOR

Bureau of Land Management

CA-310-0777-AE

Notice of Resource Advisory Council Meeting

AGENCY: Northwest California Resource Advisory Council Redding, California, Bureau of Land Management, Interior.

ACTION: Notice of Meeting.

SUMMARY: Pursuant to the authorities in the Federal Advisory Committees Act (Public Law 92-463) and the Federal Land Policy and Management Act (Public Law 94-579), the U. S. Bureau of Land Management's Northwest California Resource Advisory Council will meet Wednesday and Thursday, Aug. 1 and 2, 2001, in Redding, California, for a field tour and business meeting. The tour and meeting are open to the public, but anyone participating in the tour must provide their own transportation and lunch.

SUPPLEMENTARY INFORMATION: The meeting begins at 10 a.m. Wednesday, Aug. 1, at the BLM Redding Field Office, 355 Hemsted Dr., Redding. Members will convene, then depart immediately for a float trip in the Sacramento River Bend area, and discussions about special management considerations for this area. On Thursday, Aug. 2, the council will convene a business meeting at 8 a.m. in the Conference Room of the Redding Rancheria, 2000 Rancheria Rd, Redding, CA. Agenda topics will include recreation user fees, off highway vehicle guidelines, an overview of fire and fuels projects, Sacramento River management, and a review of the council charter. Council members will also hear status reports from the managers of the BLM's Arcata, Redding and Ukiah field offices. Time will be set aside for public comments. Depending on the number of persons wishing to speak, a time limit may be established.

FOR FURTHER INFORMATION: Contact Lynda J. Roush, BLM Arcata Field Manager, at (707) 825-2300; or Public Affairs Officer Joseph J. Fontana at (530) 257-5381.

Joseph J. Fontana,
Public Affairs Officer.

[FR Doc. 01-18680 Filed 7-25-01; 8:45 am]

BILLING CODE 4310-40-P